DEPARTMENT OF THE INTERIOR

National Park Service

National Register of Historic Places; Notification of Pending Nominations

Nominations for the following properties being considered for listing in the National Register were received by the National Park Service before February 26, 2000. Pursuant to § 60.13 of 36 CFR Part 60 written comments concerning the significance of these properties under the National Register criteria for evaluation may be forwarded to the National Register, National Park Service, 1849 C St. NW, NC400, Washington, DC 20240. Written comments should be submitted by March 22, 2000.

Patrick W. Andrus,
Acting Keeper of the National Register.

ALASKA

North Slope Borough-Census Area

Prudhoe Bay Oil Field Discovery Well Site, 200 mi. SE of Barrow, Barrow, 00000264

FLORIDA

Highlands County

Pinecrest Hotel, Old, 1609 S. Lake Lotela Dr., Avon Park, 00000266

Polk County

Lake of the Hills Community Club,

41 E. Starr Ave., Lake Wales, 00000265

HAWAII

Honolulu County

Cooke, Charles Montague, Jr. House and Kuka'O'O Heiau (Boundary Increase), Address Restricted, Honolulu, 00000267

KANSAS

Lincoln County

Cummins Block Building, 161 East Lincoln, Lincoln, 00000268

KENTUCKY

Boone County

Bedinger Site, Address Restricted, Walton, 00000276

Big Bone Lick Archeological District, Along Big Bone Creek, Union, 00000284

Maplewood, Address Restricted, Walton, 00000275

Bourbon County

Hillside Farm, 1165 N. Middletown Rd., Paris, 00000277

Carroll County

Richlawn Farm, 1705 Highland Ave., Carrollton, 00000274

Estill County

Ravenna Motor Vehicle Service Building, (Kentucky's National Guard Facilities MPS) 512 Main St., Ravenna, 00000278

Jefferson County

Fincastle, (Louisville and Jefferson County MPS) 7501 Wolf Pen Branch Rd., Prospect, 00000272

Russell Historic District (Boundary Increase), Jct. of Muhammad Ali Blvd. and S. 17th St., Louisville, 00000273

Logan County

Russellville Armory, (Kentucky's National Guard Facilities MPS) 190 S. Winter St., Russellville, 00000279

Madison County

Richmond Armory, (Kentucky's National Guard Facilities MPS) Jct. of 2nd St. and Moberly Ave., Richmond, 00000282

Marion County

Lebanon Junior High School and Lebanon High School, Jct. of N. Spalding and Hood Aves., Lebanon, 00000270

Mercer County

Harrodsburg Armory, (Kentucky's National Guard Facilities MPS) 130 N. College St., Harrodsburg, 00000281

Metcalfe County

Metcalfe County Kentucky Courthouse, Public Square, Edmonton, 00000271

Nelson County

McClaskey, Newell B., House, 1795 KY 1066, Bloomfield, 00000269

Nicholas County

Carlisle Armory, (Kentucky's National Guard Facilities MPS) 378 Main St., Carlisle, 00000280

Washington County

Springfield Armory, (Kentucky's National Guard Facilities MPS) 126 Armory Hill Rd., Springfield, 00000283

MARYLAND

Calvert County

Linden, 70 Church St., Prince Frederick, 00000285

MICHIGAN

Marquette County

Gwinn Model Town Historic District, Including most of the original plat of Gwinn and surrounding greenbelt, Forsyth, 00000286

NORTH CAROLINA

Pitt County

Kittrell—Dail House, Jct. of NC 1117 amd NC 1114, Renston, 00000287

OREGON

Jackson County

Rich Gulch Diggings, 0.75 mi SW of Jacksonville, Jacksonville, 00000288

SOUTH CAROLINA

Clarendon County

Senn's Grist Mill—Blacksmith Shop—Orange Crush Bottling Plant, 3 Cantey St., Summerton, 00000290

Oconee County

Ram Cat Alley Historic District, Ram Cat Alley and North Townville St., Seneca, 00000289

TEXAS

Harris County

City National Bank Building, 1001 McKinney Ave., Houston, 00000291

WEST VIRGINIA

Boone County

Town of Nellis, Off Cty Rte. 1, Nellis, 00000292

A request for REMOVAL has been made for the following resource:

MINNESOTA

Becker County

St. Benedict's Mission School Co. Hwy. 133 Ogema, 82002931

[FR Doc. 00-5432 Filed 3-6-00; 8:45 am]

BILLING CODE 4310-70-P